NATIONAL SCIENCE FOUNDATION

Sunshine Act; Meeting

Agency Holding Meeting: National Science Foundation. National Science Board.

Date and Time: June 30, 2003: 10 a.m.-11 a.m. Open Session.

Place: The National Science Foundation, 4201 Wilson Boulevard—Room 130, Arlington, VA 22230, www.nsf.gov/nsb.

Contact For Information: Robert Webber, (703) 292-700.

Status: This meeting will be open to the public.

Matters to be considered: Monday, June 30, 2003.

Open: NSB Subcommittee on Education and Human Resources Teleconference, Room 130.

• Overview of K-12 Working Group Objectives

• Strategies for Achieving Working Group Objectives

• Comments and Requests Related to the May 2003 Three-Groups Background Book

• Overview of Research Finding on Impact of Inquiry-Based Learning—NSF Staff

• Coordination with other Federal Agencies

• Schedule for K-12 Working Group Activities

Robert Webber
Policy Analyst, NSBO.

[FR Doc. 03-16267 Filed 6-23-03; 4:31 pm]

BILLING CODE 7555-01-M